DEPARTMENT OF HOMELAND SECURITY

Transportation Security Administration

[Docket No. TSA-2005-21866]

Extension of Agency Information Collection Activity Under OMB Review: Enhanced Security Procedures at Ronald Reagan Washington National Airport

AGENCY: Transportation Security Administration, DHS.

ACTION: 30-day Notice.

SUMMARY: This notice announces that the Transportation Security Administration (TSA) has forwarded the Information Collection Request (ICR), OMB control number 1652-0035, abstracted below to the Office of Management and Budget (OMB) for review and approval of an extension of the currently approved collection under the Paperwork Reduction Act. The ICR describes the nature of the information collection and its expected burden. TSA published a Federal Register notice, with a 60-day comment period soliciting comments, of the following collection of information on February 29, 2012 (77 FR 12321). TSA requires general aviation (GA) aircraft operators who wish to fly into and/or out of Ronald Reagan Washington National Airport (DCA) to designate a security coordinator and adopt the DCA Access Standard Security Program (DASSP).

DATES: Send your comments by May 29, 2012. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Susan L. Perkins, TSA PRA Officer, Office of Information Technology (OIT), TSA-11, Transportation Security Administration, 601 South 12th Street, Arlington, VA 20598-6011; telephone (571) 227-3398; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Enhanced Security Procedures at Ronald Reagan Washington National Airport.

Type of Request: Extension of a currently approved collection.

OMB Control Number: 1652-0035.

Forms(s): N/A.

Affected Public: GA aircraft operators, armed security officers (ASOs), flight crew, gateway airport operators.

Abstract: TSA is hereby requesting an extension of this information collection. In accordance with 49 CFR part 1562, subpart B, TSA requires GA aircraft operators who wish to fly into or out of DCA to designate a security coordinator and adopt the DASSP. Once aircraft operators have complied with the DASSP requirements, they may request a slot reservation from the Federal Aviation Administration (FAA) and request a flight authorization from TSA to fly into and out of DCA.

Number of Respondents: 4,887.

Estimated Annual Burden Hours: An estimated 5,546.74 hours annually.

Dated: Issued in Arlington, Virginia, on April 24, 2012.
Susan L. Perkins,
Paperwork Reduction Act Officer, Office of Information Technology.

[FR Doc. 2012-10208 Filed 4-26-12; 8:45 am]

BILLING CODE 9110-05-P